OFFICE OF PERSONNEL MANAGEMENT

Excepted Service

AGENCY: Office of Personnel Management (OPM).

ACTION: Notice.

SUMMARY: This notice identifies Schedule A, B, and C appointing authorities applicable to a single agency that were established or revoked from July 1, 2019 to July 31, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during July 2019.

Schedule B

No Schedule B Authorities to report during July 2019.

Schedule C

The following Schedule C appointing authorities were approved during July 2019.

Agency name | Organization name | Position title | Authorization No. | Effective date
DEPARTMENT OF AGRICULTURE | Office of Rural Housing Service | State Director—North Carolina | DA190160 | 07/02/2019
|  | Confidential Assistant | DA190171 | 07/23/2019
|  | State Director—Wyoming | DA190168 | 07/09/2019
| Office of Agricultural Marketing Service | Chief of Staff | DA190173 | 07/22/2019
| Office of the Secretary | Confidential Assistant | DA190180 | 07/29/2019
| Office of Under Secretary for Natural Resources and Environment | Staff Assistant | DA190167 | 07/12/2019
DEPARTMENT OF COMMERCE | Office of Advance, Scheduling and Protocol | Advance Representative | DC190119 | 07/11/2019
| Office of Public Affairs | Press Assistant | DC190122 | 07/24/2019
| Office of the Assistant Secretary for Economic Development | Special Advisor | DC190127 | 07/23/2019
| Office of the Deputy Secretary | Senior Advisor | DC190128 | 07/24/2019
| Office of the General Counsel | Counsel | DC190129 | 07/24/2019
|  | Senior Counsel | DC190130 | 07/24/2019
| Office of the Under Secretary | Special Advisor | DC190136 | 07/25/2019
| Office of the Under Secretary for Economic Affairs | Confidential Assistant | DC190121 | 07/18/2019
COMMODITY FUTURES TRADING COMMISSION | Office of Division of Clearing and Risk | Director | CT190005 | 07/15/2019
| Office of External Affairs | Director | CT190008 | 07/15/2019
| Office of the Chairperson | Executive Assistant | CT190004 | 07/15/2019
|  | Senior Advisor | CT190006 | 07/15/2019
|  | Director of Legislative and Intergovernmental Affairs | CT190009 | 07/29/2019
DEPARTMENT OF DEFENSE | Office of the Under Secretary of Defense (Personnel and Readiness) | Special Assistant | DD190158 | 07/09/2019
| Office of the Under Secretary of Defense (Policy) | Special Assistant | DD190166 | 07/29/2019
DEPARTMENT OF THE ARMY | Office Assistant Secretary Army (Manpower and Reserve Affairs) | Special Assistant (Manpower and Reserve Affairs) | DW190046 | 07/08/2019
DEPARTMENT OF EDUCATION | Office of Postsecondary Education | Confidential Assistant (2) | DB190108 DB190109 | 07/02/2019 07/03/2019
| Office of the Under Secretary | Confidential Assistant | DB190111 | 07/03/2019
| Office of Communications and Outreach | Special Assistant | DB190104 | 07/12/2019
DEPARTMENT OF ENERGY | Office of the Assistant Secretary for International Affairs | Senior Advisor Special Advisor (2) | DE190146 DE190147 DE190148 | 07/11/2019 07/11/2019 07/11/2019
| Office of Public Affairs | Press Assistant | DE190150 | 07/23/2019
| Office of Science | Senior Advisor | DE190155 | 07/30/2019
| Office of the Deputy Secretary | Special Advisor | DE190139 | 07/11/2019
ENVIRONMENTAL PROTECTION AGENCY | Office of the Assistant Administrator for International and Tribal Affairs | Senior Advisor for Policy and Management | EP190106 | 07/12/2019
| Office of the Administrator | Senior Deputy White House Liaison | EP190110 | 07/29/2019
| Office of Public Affairs | Senior Advisor for Strategic and Regional Communications | EP190111 | 07/29/2019
| Office of the Assistant Administrator for Research and Development | Special Advisor | EP190107 | 07/30/2019
EXPORT-IMPORT BANK | Office of the Chief of Staff | Senior Advisor, National Security | EB190012 | 07/16/2019
| Office of Congressional and Intergovernmental Affairs (2) | Special Advisor Senior Advisor | EB190013 EB190004 | 07/17/2019 07/19/2019
|  | Senior Vice President, Congressional and Intergovernmental Affairs | EB190014 | 07/31/2019
GENERAL SERVICES ADMINISTRATION | Office of Public Buildings Service | Executive Assistant | GS190035 | 07/29/2019
DEPARTMENT OF HEALTH AND HUMAN SERVICES | Office of Centers for Medicare and Medicaid Services | Director of Strategic Communications | DH190171 | 07/11/2019
| Office of the Assistant Secretary for Public Affairs | Content Strategy and Marketing Associate | DH190168 | 07/02/2019
|  | Deputy Press Secretary | DH190226 | 07/29/2019
| Office of the General Counsel | Law Clerk Associate Deputy General Counsel | DH190201 DH190229 | 07/17/2019 07/29/2019
| Office of the Secretary | Special Assistant (2) | DH190170 DH190225 | 07/11/2019 07/29/2019
DEPARTMENT OF HOMELAND SECURITY | Office of the United States Citizenship and Immigration Services | Special Assistant | DM190235 | 07/03/2019
| Office of Cybersecurity and Infrastructure Security Agency | Legislative Advisor | DM190246 | 07/11/2019
| Office of Transportation Security Administration | Senior Counselor | DM190255 | 07/16/2019
DEPARTMENT OF HOUSING AND URBAN DEVELOPMENT | Office of Congressional and Intergovernmental Relations | Senior Advisor | DU190091 | 07/09/2019
| Office of Field Policy and Management | Special Assistant | DU190103 | 07/29/2019
| Office of the Administration | Advance Coordinator | DU190090 | 07/09/2019
|  | Special Assistant | DU190100 | 07/31/2019
| Office of the Chief Financial Officer | Program Analyst | DU190099 | 07/24/2019
| Office of the Chief Information Officer | Management Analyst | DU190101 | 07/24/2019
DEPARTMENT OF THE INTERIOR | Office of Congressional and Legislative Affairs | Advisor | DI190080 | 07/12/2019
| Secretary's Immediate Office | Special Assistant (2) | DI190081 DI190082 | 07/12/2019 07/23/2019
| Bureau of Reclamation | Advisor | DI190076 | 07/29/2019
DEPARTMENT OF JUSTICE | Executive Office for United States Attorneys | Secretary | DJ190164 | 07/24/2019
| Office of Public Affairs | Attorney General, Advance and National Coordinator for the United States of America, Public Information Office | DJ190184 | 07/29/2019
| Office of Justice Programs | Counsel | DJ190157 | 07/30/2019
DEPARTMENT OF LABOR | Office of Employment and Training Administration | Senior Policy Advisor | DL190124 | 07/03/2019
| Office of Congressional and Intergovernmental Affairs | Senior Legislative Officer (3) | DL190103 DL190106 DL190107 | 07/01/2019 07/02/2019 07/02/2019
| Office of Public Affairs | Senior Advisor for Digital Strategy and Creative Services | DL190109 | 07/02/2019
|  | Communications Advisor | DL190115 | 07/02/2019
|  | Deputy Press Secretary | DL190108 | 07/09/2019
| Office of the Assistant Secretary for Policy | Senior Policy Advisor Senior Policy Advisor for Workforce Health Initiatives | DL190125 DL190131 | 07/03/2019 07/17/2019
| Office of the Secretary | Advance Representative | DL190105 | 07/02/2019
|  | Deputy Chief of Staff | DL190137 | 07/24/2019
| Office of Veterans Employment and Training Service | Chief of Staff and Policy Advisor | DL190111 | 07/09/2019
| Office of Wage and Hour Division | Senior Policy Advisor (2) | DL190123 DL190126 | 07/03/2019 07/17/2019
NATIONAL LABOR RELATIONS BOARD | Office of the Board Members | Director Congressional and Public Affairs Officer | NL190011 | 07/01/2019
OCCUPATIONAL SAFETY AND HEALTH REVIEW COMMISSION | Office of Commissioners | Confidential Assistant | SH190001 | 07/02/2019
OFFICE OF MANAGEMENT AND BUDGET | Office of Education, Income Maintenance and Labor Programs | Confidential Assistant | BO190035 | 07/03/2019
| Office of the Director | Confidential Assistant | BO190040 | 07/25/2019
OFFICE OF PERSONNEL MANAGEMENT | Office of Communications | Confidential Assistant | PM190047 | 07/08/2019
SECURITIES AND EXCHANGE COMMISSION | Office of the Chairman | Attorney Advisor | SE190009 | 07/22/2019
SMALL BUSINESS ADMINISTRATION | Office of Administration | Special Assistant | SB190028 | 07/22/2019
DEPARTMENT OF STATE | Bureau of Democracy, Human Rights and Labor | Special Assistant | DS190112 | 07/03/2019
| Bureau of International Organizational Affairs | Special Assistant | DS190120 | 07/16/2019
| Office of the Chief of Protocol | Senior Protocol Officer | DS190113 | 07/03/2019
|  | Protocol Officer (Visits) | DS190119 | 07/23/2019
| Office of the Deputy Secretary | Special Advisor | DS190125 | 07/30/2019
| Office of the Secretary | Special Advisor | DS190042 | 07/08/2019
|  | Special Assistant | DS190127 | 07/31/2019
| Office of the Under Secretary for Management | Senior Advisor | DS190123 | 07/24/2019
DEPARTMENT OF TRANSPORTATION | Office of the Assistant Secretary for Research and Technology | Special Assistant | DT190096 | 07/17/2019
| Immediate Office of the Administrator | Special Assistant for Strategic Communications | DT190112 | 07/31/2019
DEPARTMENT OF THE TREASURY | Secretary of the Treasury | Associate Director of Scheduling and Advance | DY190086 | 07/11/2019
| Office of the Assistant Secretary (Public Affairs) | Director of Public Affairs (Digital Strategies) | DY190090 | 07/29/2019
| Office of the Assistant Secretary (Legislative Affairs) | Special Assistant | DY190091 | 07/29/2019
DEPARTMENT OF VETERANS AFFAIRS | Office of Public Affairs | Press Secretary | DV190078 | 07/23/2019

The following Schedule C appointing authorities were revoked during July 2019.

Agency name | Organization name | Position title | Request No. | Date vacated
COMMODITY FUTURES TRADING COMMISSION | Office of the Chairperson | Director of Legislative and Intergovernmental Affairs | CT170004 | 07/15/2019
|  | Executive Assistant | CT170002 | 07/15/2019
| Office of External Affairs | Director of External Affairs | CT180002 | 07/15/2019
DEPARTMENT OF AGRICULTURE | Office of the Under Secretary for Farm Production and Conservation | Staff Assistant | DA180181 | 07/06/2019
| Office of Rural Business Service | Confidential Assistant | DA180251 | 07/06/2019
| Office of Rural Housing Service | State Director—Wyoming | DA180016 | 07/06/2019
| Office of Rural Utilities Service | Policy Coordinator | DA190001 | 07/07/2019
| Office of the Assistant Secretary for Administration | Senior Advisor | DA190087 | 07/23/2019
DEPARTMENT OF COMMERCE | Office of Public Affairs | Director of Speechwriting | DC180160 | 07/06/2019
OFFICE OF THE SECRETARY OF DEFENSE | Office of the Chief Management Officer | Special Assistant | DD180139 | 07/20/2019
| Office of the Under Secretary of Defense (Personnel and Readiness) | Special Assistant to the Director Force Resiliency | DD180083 | 07/20/2019
DEPARTMENT OF EDUCATION | Office for Civil Rights | Deputy Assistant Secretary for Policy and Development | DB180021 | 07/06/2019
| Office of Elementary and Secondary Education | Confidential Assistant for Policy | DB190015 | 07/06/2019
| Office of the Secretary | Special Assistant | DB170111 | 07/06/2019
| Office of the Under Secretary | Confidential Assistant | DB190017 | 07/26/2019
DEPARTMENT OF ENERGY | Office of the Assistant Secretary for Electricity Delivery and Energy Reliability | Special Assistant | DE180137 | 07/06/2019
| Office of the Assistant Secretary for Environmental Management | Chief of Staff | DE190074 | 07/06/2019
| Office of the Assistant Secretary for Fossil Energy | Senior Advisor | DE190141 | 07/19/2019
| Office of Public Affairs | Special Assistant to the Digital Director | DE180077 | 07/06/2019
|  | Writer-Editor (Chief Speechwriter) | DE170203 | 07/06/2019
| Office of Science | Special Assistant | DE190046 | 07/06/2019
| Office of the Chief Financial Officer | Special Assistant | DE180067 | 07/07/2019
| Office of the Chief Information Officer | Special Advisor | DE180128 | 07/06/2019
| Office of the Deputy Secretary | Special Advisor to the Deputy Secretary | DE190052 | 07/20/2019
| Office of the Secretary | Special Assistant | DE180071 | 07/06/2019
DEPARTMENT OF HEALTH AND HUMAN SERVICES | Centers for Medicare and Medicaid Services | Advisor to the Principal Deputy Administrator for Medicare | DH180178 | 07/01/2019
|  | Deputy Director of Communications | DH190021 | 07/20/2019
| Office of the Assistant Secretary for Public Affairs | Communications Assistant | DH180235 | 07/06/2019
| Office of the Secretary | Senior Advisor | DH180228 | 07/06/2019
|  | Advisor to the Chief Technology Officer | DH190026 | 07/20/2019
DEPARTMENT OF HOMELAND SECURITY | Office of the United States Customs and Border Protection | Special Assistant | DM180102 | 07/06/2019
| Office of the Assistant Secretary for Public Affairs | Director of Strategic Outreach and Engagement | DM190051 | 07/21/2019
DEPARTMENT OF HOUSING AND URBAN DEVELOPMENT | Office of the Administration | Director of Executive Scheduling and Operations | DU180098 | 07/20/2019
DEPARTMENT OF JUSTICE | Office of Public Affairs | Media Affairs Coordinator | DJ180135 | 07/01/2019
| Office of Justice Programs | Senior Advisor | DJ180042 | 07/28/2019
| Office of Civil Rights Division | Senior Counsel | DJ190204 | 07/30/2019
DEPARTMENT OF LABOR | Office of Employment and Training Administration | Counsel | DL180097 | 07/06/2019
DEPARTMENT OF STATE | Bureau of African Affairs | Special Assistant | DS190003 | 07/06/2019
DEPARTMENT OF THE TREASURY | Office of the Assistant Secretary (Legislative Affairs) | Special Assistant to the Assistant Secretary for Legislative Affairs | DY180105 | 07/17/2019
| Secretary of the Treasury | Assistant Director of Scheduling and Advance | DY180117 | 07/27/2019
ENVIRONMENTAL PROTECTION AGENCY | Office of the Administrator | Special Assistant to the Senior Advisor | EP170076 | 07/06/2019
| Office of the Assistant Administrator for International and Tribal Affairs | Senior Advisor for the Office of International and Tribal Affairs | EP180091 | 07/20/2019
FEDERAL ENERGY REGULATORY COMMISSION | Office of the Chairman | Confidential Assistant (2) | DR150015 DR160002 | 07/12/2019 07/12/2019
NATIONAL AERONAUTICS AND SPACE ADMINISTRATION | Office of Communications | Social Media Specialist | NN180033 | 07/19/2019
NATIONAL CREDIT UNION ADMINISTRATION | Office of the Board | Senior Policy Advisor | CU140001 | 07/19/2019
SMALL BUSINESS ADMINISTRATION | Office of Communications and Public Liaison | Deputy Associate Administrator | SB180033 | 07/18/2019
| Office of Administration | Special Assistant | SB180026 | 07/23/2019

Authority: 5 U.S.C. 3301 and 3302; E.O. 10577, 3 CFR, 1954-1958 Comp., p. 218.

Office of Personnel Management.
Alexys Stanley,
Regulatory Affairs Analyst.

[FR Doc. 2019-25357 Filed 11-21-19; 8:45 am]

BILLING CODE 6325-39-P